DEPARTMENT OF THE INTERIOR

Bureau of Reclamation

San Luis Unit Long-Term Contract Renewals

AGENCY: Bureau of Reclamation, Interior.

ACTION: Notice of availability of the draft environmental impact statement (EIS).

SUMMARY: Pursuant to the National Environmental Policy Act of 1969 (as amended) and the California Environmental Quality Act, the Bureau of Reclamation has made available for public review and comment a Draft EIS for the renewal of long-term water service contracts for the San Luis Unit of the Central Valley Project (CVP). The Draft EIS describes and presents the environmental effects of three alternatives, including no action, for implementing the renewal of the long-term water service contracts. A 45-day public comment period will be allowed to receive comments from individuals and organizations on the Draft EIS.

DATES: Written comments on the Draft EIS will be accepted on or before January 24, 2005.

ADDRESSES: Send comments on the Draft EIS to Joe Thomson, Bureau of Reclamation, Mid-Pacific Region, 1243 “N” Street, Fresno, CA 93644.

Copies of the Draft EIS may be requested from Ms. Sammie Cervantes, Bureau of Reclamation, 2800 Cottage Way, Sacramento, CA 95825 or by calling 916-978-5104, TDD 916-978-5608. See Supplementary Information section for locations where copies of the Draft EIS are available for public inspection.

FOR FURTHER INFORMATION CONTACT: Joe Thompson, Environmental Specialist, Bureau of Reclamation, at 559-487-5179.

SUPPLEMENTARY INFORMATION: The Draft EIS will address impacts related to the renewal of long-term water service contracts between Reclamation and the contractors in the San Luis Unit. The alternatives present a range of water service agreement provisions that could be implemented for long-term contract renewals. The first alternative, the No-Action Alternative, consists of renewing water service contracts as described by the preferred alternative of the Programmatic EIS for the Central Valley Project Improvement Act. A proposal by Reclamation was submitted to the contractors in 1999 with an alternative contract being submitted by the contractors in 2000. Reclamation and the contractors have continued to negotiate the CVP-wide terms and conditions with these proposals serving as the basis for analysis of such “bookends.” The EIS also evaluates the proposals against the No-Action Alternative as bookends to be considered for the environmental documentation that evaluates the impacts and benefits of renewing the long-term water service contracts.

Copies of the Draft EIS are available for public inspection and review at the following locations:

• Bureau of Reclamation, Denver Office Library, Building 67, Room 167, Denver Federal Center, 6th and Kipling, Denver, CO 80225; telephone: 303-445-2072.

• Bureau of Reclamation, Office of Public Affairs, 2800 Cottage Way, Sacramento, CA 95825-1898; telephone: 916-978-5100.

• Bureau of Reclamation, South Central California Area Office, 1243 “N” Street, Fresno, CA 93721.

• Natural Resources Library, U.S. Department of the Interior, 1849 C Street NW., Main Interior Building, Washington, DC 20240-0001.

Public Libraries:

• Fresno County Public Library, 2420 Mariposa Street, Fresno, CA 93721.

• Los Banos Public Library, 1312 S. 7th Street, Los Banos, CA 93635.

Oral and written comments, including names and home addresses of respondents will be available for public review. Individual respondents may request that we withhold their home address from public disclosure, which will be honored to the extent allowable by law. There may be circumstances in which respondent's identity may also be withheld from public disclosure, as allowable by law. If you wish to have your name and/or address withheld, you must state this prominently at the beginning of your comment. All submissions from organizations or businesses, and from individuals identifying themselves as representatives or officials of organizations or businesses, will be made available for public disclosure in their entirety.

Dated: September 28, 2004.
John F. Davis,
Deputy Regional Director, Mid-Pacific Region.

[FR Doc. 04-27005 Filed 12-8-04; 8:45 am]

BILLING CODE 4310-MN-P